DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2008, there were six applications approved. This notice also includes information on four applications, one approved in May 2008 and the other three approved in October 2008, inadvertently left off the May 2008 and October 2008 notices, respectively. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Grand Forks Regional Airport Authority, Grand Forks, North Dakota.

Application Number: 08-07-C-00-GFK.

Application Type: Impose and use a PFC.

PFC Level: $4.50.

Total PFC Revenue Approved in This Decision: $362,368.

Earliest Charge Effective Date: January 1, 2009.

Estimated Charge Expiration Date: February 1, 2010.

Class of Air Carriers Not Required To Collect PFCs: None.

Brief Description of Projects Approved for Collection and Use: Purchase land for runway protection zone.

Construct east/west runway.

Decision Date: May 28, 2008.

FOR FURTHER INFORMATION CONTACT: Thomas Schauer, Bismarck Airports District Office, (701) 323-7383.

Public Agency: City of Valdosta, Georgia.

Application Number: 08-09-C-00-VLD.

Application Type: Impose and use a PFC.

PFC Level: $3.00.

Total PFC Revenue Approved in This Decision: $30,300.

Earliest Charge Effective Date: August 1, 2009.

Estimated Charge Expiration Date: December 1, 2009.

Class of Air Carriers Not Required To Collect PFCs: None.

Brief Description of Projects Approved for Collection and Use:

Rehabilitate airfield lighting/signs phase I (design).

Rehabilitate airfield lighting/signs phase II (construction).

Airfield drainage rehabilitation.

PFC application development.

Brief Description of Withdrawn Projects:

Expand commercial ramp.

Design new air traffic control tower.

Build new air traffic control tower.

Demolition and removal of old pavements.

Date of Withdrawal: October 27, 2008.

Decision Date: October 29, 2008.

FOR FURTHER INFORMATION CONTACT: Anna Guss, Atlanta Airports District Office, (404) 305-7146.

Public Agency: City of Cody, Wyoming.

Application Number: 08-06-C-00-COD.

Application Type: Impose and use a PFC.

PFC Level: $4.50.

Total PFC Revenue Approved in This Decision: $79,500.

Earliest Charge Effective Date: February 1, 2011.

Estimated Charge Expiration Date: January 1, 2013.

Class of Air Carriers Not Required To Collect PFCs: On-demand, non-scheduled air taxi/commercial operators.

Determination: Approved. Based on information contained in the public agency's application, the FAA has determined that the approved class accounts for less than 1 percent of the total annual enplanements at Yellowstone Regional Airport.

Brief Description of Projects Approved for Collection and Use:

Taxiway B rehabilitation.

Security plan.

Gate relocation.

Acquire snow plow blade.

Brief Description of Withdrawn Projects:

Vehicle purchase. Airport radios.

Security upgrades.

Replace aircraft rescue and firefighting equipment.

Expand aircraft rescue and firefighting building.

Acquire snow removal equipment.

Overlay taxiway A.

Date of Withdrawal: October 23, 2008.

Decision Date: October 29, 2008.

FOR FURTHER INFORMATION CONTACT: Chris Schaffer, Denver Airports District Office, (303) 342-1258.

Public Agency: County of Humboldt, Eureka, California.

Application Number: 08-09-C-00-ACV.

Application Type: Impose and use a PFC.

PFC Level: $4.50.

Total PFC Revenue Approved in This Decision: $926,450.

Earliest Charge Effective Date: March 1, 2009.

Estimated Charge Expiration Date: May 1, 2011.

Class of Air Carriers Not Required To Collect PFCs: Non-scheduled, on demand air carriers filing FAA Form 1800-31.

Determination: Approved. Based on information contained in the public agency's application, the FAA has determined that the approved class accounts for less than 1 percent of the total annual enplanements at Arcata Airport (ACV).

Brief Description of Projects Approved for Collection at ACV and Use at ACV:

Terminal improvements.

Install/upgrade airfield guidance signs.

Runway safety area enhancements, design.

Rehabilitate runway lighting, design.

Construct aircraft rescue and firefighting building, design.

PFC administration costs.

Brief Description of Project Approved for Collection at ACV and Use at Garberville Airport (016): Rehabilitate/expand apron, design.

Brief Description of Project Approved for Collection at ACV and Use at Rohnerville Airport (FOT): Rehabilitate apron, design.

Brief Description of Project Approved for Collection at ACV (For and Future Use at 016): Install automated weather observing system.

Brief Description of Projects Approved for Collection at ACV (For Future Use at Murray Field): Install automated weather observing system. Install perimeter fencing.

Brief Description of Project Approved for Collection at ACV (For Future Use at FOT): Install automated weather observing system.

Brief Description of Project Approved for Collection at ACV (For Future Use at Kneeland Airport): Erosion control/stabilization, design.

Decision Date: October 30, 2008.

FOR FURTHER INFORMATION CONTACT: Ron Biaoco, San Francisco Airports District Office, (650) 876-2778, extension 626.

Public Agency: Parish of East Baton Rouge, City of Baton Rouge, Louisiana.

Application Number: 09-07-C-00-BTR.

Application Type: Impose and use a PFC.

PFC Level: $4.50.

Total PFC Revenue Approved in This Decision: $25,627,674.

Earliest Charge Effective Date: March 1, 2024.

Estimated Charge Expiration Date: July 1, 2031.

Class of Air Carriers Not Required To Collect PFCs: Part 135 on-demand air taxi/commercial operators.

Determination: Approved. Based on information contained in the public agency's application, the FAA has determined that the approved class accounts for less than 1 percent of the total annual enplanements at Baton Rouge Metropolitan Airport.

Brief Description of Projects Approved for Collection and Use:

Terminal atrium expansion.

Acquisition of property for development.

Taxiway fillet construction.

Ticket lobby expansion.

Decision Date: November 12, 2008.

FOR FURTHER INFORMATION CONTACT: Ilia Quinones, Louisiana/New Mexico Airports Development Office, (817) 222-5646.

Public Agency: County of San Diego, El Cajon, California.

Application Number: 09-01-C-00-CRQ.

Application Type: Impose and use a PFC.

PFC Level: $4.50.

Total PFC Revenue Approved in This Decision: $4,947,065.

Earliest Charge Effective Date: January 1, 2009.

Estimated Charge Expiration Date: February 1, 2043.

Class of Air Carriers Not Required to Collect PFCs: Nonscheduled/on-demand air carriers, filing FAA Form 1800-31.

Determination: Approved. Based on information contained in the public agency's application, the FAA has determined that the approved class accounts for less than 1 percent of the total annual enplanements at McClellan-Palomar Airport.

Brief Description of Projects Approved for Collection and Use:

Construct taxiway C.

Construct terminal apron.

Enhance runway safety area and infield drainage.

Construct blast fence.

Construct access road.

Enhance airport security system.

Construct passenger movement facility (elevators and bridge).

Design and construct terminal building.

Acquire aircraft rescue and firefighting vehicle.

PFC administrative costs.

Decision Date: November 24, 2008.

FOR FURTHER INFORMATION CONTACT: Darlene Williams, Los Angeles Airports District Office, (310) 725-3625.

Public Agency: City of Saint Louis Airport Authority, Saint Louis, Missouri.

Application Number: 08-09-C-00-STL.

Application Type: Impose and use a PFC.

PFC Level: $4.50.

Total PFC Revenue Approved in This Decision: $783,625,492.

Charge Effective Date: May 1, 2002.

Estimated Charge Expiration Date: February 1, 2022.

Class of Air Carriers Not Required to Collect PFCs: Air taxi/commercial operators filing FAA Form 1800-31.

Determination: Approved. Based on information contained in the public agency's application, the FAA has determined that the approved class accounts for less than 1 percent of the total annual enplanements at Lambert-St. Louis International Airport.

Brief Description of Projects Approved for Collection and Use at a $3.00 PFC Level:

Terminal improvement program.

Emergency generators.

Runways 12R/30L and 12L130R centerline panels.

Taxiway reconstruction (D and S).

Relocation of McDonnell Boulevard, phases I and II.

Part 150 study.

Master plan update—phase II.

Perimeter security fence.

Expansion of 800 Mhz radio system.

Noise monitoring system upgrade.

Terminal improvements (Federal Inspection Services).

Brief Description of Project Approved for Collection at a $3.00 PFC Level:Taxiway reconstruction (F and V).

Brief Description of Projects Approved for Collection and Use at a $4.50 PFC Level: Balance of real property acquisition for airport expansion projects. Carrolton Schools replacement facility.

Program management (includes program management/airport development program consultant fees).

Site development and roadway infrastructure.

New runway.

New Runway: Taxiways.

New Runway: Perimeter Road.

New Runway: Security Fences.

New west aircraft rescue and firefighting building.

Taxiway Delta improvements.

Decision Date: November 24, 2008.

FOR FURTHER INFORMATION CONTACT: Mark Schenkelberg, Central Region Airports Division, (816) 329-2645.

Public Agency: County of Routt, Hayden, Colorado.

Application Number: 09-08-C-00-HDN.

Application Type: Impose and use a PFC.

PFC Level: $4.50.

Total PFC Revenue Approved in This Decision: $1,691,312.

Earliest Charge Effective Date: August 1, 2012.

Estimated Charge Expiration Date: September 1, 2015.

Class of Air Carriers Not Required To Collect PFCs: None.

Brief Description of Projects Approved for Collection and Use:

Acquire aircraft rescue and firefighting truck.

Taxiway A rehabilitation.

Master plan update.

Snow removal equipment building.

Emergency generator.

Fingerprint equipment.

PFC application and administrative fees.

Snow removal equipment.

Decision Date: November 25, 2008.

FOR FURTHER INFORMATION CONTACT: Chris Schaffer, Denver Airports District Office, (303) 342-1258.

Public Agency: County of Clinton, Plattsburgh, New York.

Application Number: 09-01-C-00-PBG.

Application Type: Impose and use a PFC.

PFC Level: $4.50.

Total PFC Revenue Approved in This Decision: $732,355.

Earliest Charge Effective Date: January 1, 2009.

Estimated Charge Expiration Date: December 1, 2012.

Class of Air Carriers Not Required to Collect PFCs: None.

Brief Description of Projects Approved for Collection and Use:

Relocate runway lighting, remarking, and airfield signage.

Runway 17/35 rehabilitation.

Taxiway lighting and marking.

Passenger terminal building.

Perimeter fencing.

Runway 17/35 navigational aids.

Acquire aircraft rescue and firefighting vehicle.

PFC application.

Decision Date: November 25, 2008.

FOR FURTHER INFORMATION CONTACT: Andrew Brooks, New York Airports District Office, (516) 227-3816.

Public Agency: County of Campbell/Gillette-Campbell County Airport Board, Gillette, Wyoming.

Application Number: 09-07-C-00-GCC.

Application Type: Impose and use a PFC.

PFC Level: $4.50.

Total PFC Revenue Approved in This Decision: $433,172.

Earliest Charge Effective Date: March 1, 2010.

Estimated Charge Expiration Date: July 1, 2014.

Class of Air Carriers Not Required to Collect PFCs: None.

Brief Description of Projects Approved for Collection and Use:

Rehabilitate pavement markings.

Rehabilitate airfield signs.

Remodel terminal security screening area.

Rehabilitate south general aviation apron.

PFC administration.

Decision Date: November 25, 2008.

FOR FURTHER INFORMATION CONTACT: Chris Schaffer, Denver Airports District Office, (303) 342-1258.

Amendment to PFC Approvals:

Amendment No., city, state | Amendment approved date | Original approved net PFC revenue | Amended approved net PFC revenue | Original estimated charge exp. date | Amended estimated charge exp. date
00-07-C-03-MDW Chicago, IL | 10/29/08 | $795,708,154 | $807,154,315 | 04/01/34 | 04/01/34
02-09-C-02-MDW Chicago, IL | 10/29/08 | 181,326,845 | 187,374,819 | 08/01/38 | 08/01/38
06-11-C-01-MDW Chicago, IL | 10/29/08 | 1,300,000 | 0 | 09/01/38 | 09/01/38
02-06-C-06-MSY New Orleans, LA | 10/31/08 | 255,936,769 | 276,286,494 | 09/01/16 | 12/01/17
96-05-C-05-MDW Chicago, IL | 11/03/08 | 178,087,493 | 180,380,371 | 11/01/16 | 11/01/16
05-07-C-02-FLL Fort Lauderdale, FL | 11/05/08 | 146,549,617 | 110,428,401 | 11/01/08 | 11/01/08
06-11-C-01-MHT Manchester, NH* | 11/12/08 | 17,257,727 | 24,553,090 | 12/01/22 | 12/01/22
07-12-U-01-MHT Manchester, NH | 11/12/08 | NA | NA | 12/01/22 | 12/01/22
06-07-C-02-BUR Burbank, CA | 11/14/08 | 26,793,195 | 27,193,195 | 09/01/12 | 04/01/13
04-07-C-02-CMH Columbus, OH | 11/14/08 | 80,836,858 | 77,072,441 | 02/01/10 | 10/01/09
Notes: The amendment denoted by an asterisk (*) includes a change to the PFC level charged from $3.00 per enplaned passenger to $4.50 per enplaned passenger. For Manchester, NH this change is effective on January 1, 2021.

Issued in Washington, DC on December 5, 2008.
Joe Hebert,
Manager, Financial Analysis and Passenger Facility Charge Branch.

[FR Doc. E8-29522 Filed 12-15-08; 8:45 am]

BILLING CODE 4910-13-M